DEPARTMENT OF ENERGY

Federal Energy Regulatory Commission

Combined Notice of Filings #1

Take notice that the Commission received the following electric corporate filings:

Docket Numbers: EC19-22-000.

Applicants: Dominion Bridgeport Fuel Cell, LLC, FuelCell Energy Finance, LLC.

Description: Application for Authorization Under Section 203 of the Federal Power Act, et al. of Dominion Bridgeport Fuel Cell, LLC, et al.

Filed Date: 11/5/18.

Accession Number: 20181105-5209.

Comments Due: 5 p.m. ET 11/26/18.

Take notice that the Commission received the following electric rate filings:

Docket Numbers: ER10-1533-018.

Applicants: Macquarie Energy LLC.

Description: Notice of Non-Material Change in Status of Macquarie Energy LLC.

Filed Date: 11/5/18.

Accession Number: 20181105-5199.

Comments Due: 5 p.m. ET 11/26/18.

Docket Numbers: ER17-2219-001.

Applicants: System Energy Resources, Inc.

Description: Report Filing: SERI Refund Report to be effective N/A.

Filed Date: 11/5/18.

Accession Number: 20181105-5197.

Comments Due: 5 p.m. ET 11/26/18.

Docket Numbers: ER18-2324-000.

Applicants: NorthWestern Corporation.

Description: Supplement (Diagram) to August 27, 2018 Request for Limited Waiver of Filed Tariff of NorthWestern Corporation.

Filed Date: 11/2/18.

Accession Number: 20181102-5259.

Comments Due: 5 p.m. ET 11/9/18.

Docket Numbers: ER19-286-000.

Applicants: Southwest Power Pool, Inc.

Description: § 205(d) Rate Filing: 3101R2 Heartland Consumers Power District NITSA and NOA to be effective 4/22/2018.

Filed Date: 11/5/18.

Accession Number: 20181105-5063.

Comments Due: 5 p.m. ET 11/26/18.

Docket Numbers: ER19-287-000.

Applicants: PJM Interconnection, L.L.C.

Description: § 205(d) Rate Filing: Original ISA SA No. 5227; Queue No. AB2-158 to be effective 10/8/2018.

Filed Date: 11/5/18.

Accession Number: 20181105-5064.

Comments Due: 5 p.m. ET 11/26/18.

Docket Numbers: ER19-288-000.

Applicants: Carson Hybrid Energy Storage LLC.

Description: Baseline eTariff Filing: Application for Market Based Rate to be effective 12/1/2018.

Filed Date: 11/5/18.

Accession Number: 20181105-5076.

Comments Due: 5 p.m. ET 11/26/18.

Docket Numbers: ER19-289-000.

Applicants: Cleco Cajun LLC.

Description: Baseline eTariff Filing: Baseline new to be effective 1/5/2019.

Filed Date: 11/5/18.

Accession Number: 20181105-5181.

Comments Due: 5 p.m. ET 11/26/18.

Docket Numbers: ER19-290-000.

Applicants: Pacific Gas and Electric Company.

Description: § 205(d) Rate Filing: Revisions to Appendix A to the US DOE Berkeley Site Office IA (SA 63) to be effective 11/6/2018.

Filed Date: 11/5/18.

Accession Number: 20181105-5198.

Comments Due: 5 p.m. ET 11/26/18.

Docket Numbers: ER19-291-000.

Applicants: ISO New England Inc., New England Power Pool.

Description: ISO New England Inc., et al. submits Installed Capacity Requirement, Hydro Quebec Interconnection Capability Credits and Related Values for the 2022/2023 Capacity Commitment Period.

Filed Date: 11/6/18.

Accession Number: 20181106-5025.

Comments Due: 5 p.m. ET 11/27/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 6, 2018.
Nathaniel J. Davis, Sr.,
Deputy Secretary.

[FR Doc. 2018-24671 Filed 11-9-18; 8:45 am]

BILLING CODE 6717-01-P